DEPARTMENT OF ENERGY

Federal Energy Regulatory Commission

[Project No. P-12642-003]

Wilkesboro Hydroelectric Company; Notice of Application Ready for Environmental Analysis and Soliciting Comments, Recommendations, Terms and Conditions, and Prescriptions

October 7, 2010.

Take notice that the following hydroelectric application has been filed with the Commission and is available for public inspection.

a. Type of Application: Original Major License.

b. Project No.: P-12642-003.

c. Date filed: September 29, 2009.

d. Applicant: Wilkesboro Hydroelectric Company.

e. Name of Project: W. Kerr Scott Hydropower Project.

f. Location: The proposed project would be located at the existing U.S. Army Corps of Engineers' (Corps) W. Kerr Scott dam on the Yadkin River, near Wilkesboro in Wilkes County, North Carolina. A total of 3.5 acres of Federal lands, administered by the Corps, would be occupied by the proposed project.

g. Filed Pursuant to: Federal Power Act 16 U.S.C. 791(a)-825(r).

h. Applicant Contact: Mr. Kevin Edwards, P.O. Box 143, Mayodan, NC 27027; Mr. Dean Edwards, P.O. Box 1565, Dover, FL 33527.

i. FERC Contact: Jennifer Adams at (202) 502-8087, or jennifer.adams@ferc.gov.

j. The deadline for filing comments, recommendations, terms and conditions, and prescriptions is 60 days from the issuance of this notice and reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll-free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The proposed project would use the Corps' existing Kerr Scott dam, and would consist of the following modified and new facilities: (1) A multi-level intake structure with trashracks; (2) a 749-foot-long reinforced concrete water conduit with a 580-foot-long, 11-foot-diameter steel liner in the downstream portion; (3) a penstock bifurcation and two 8-foot-diameter steel penstocks; (4) a gate at the end of the water conduit, with a Howell-Bunger-ring-jet-type fixed cone valve; (5) an 80-foot-long by 30-foot-wide powerhouse containing one 2.0-MW Kaplan unit and one 2.0-MW propeller-type unit; (6) an 80-foot-wide by 30-foot-long discharge channel that joins the Yadkin River at the downstream end of the existing stilling basin; (7) a substation; (8) a new underground 12.47-kilovolt (kV) transmission line that extends 150 feet from the proposed powerhouse to an existing utility pole to the south of the powerhouse, and an upgraded 3,600-foot-long, 12.47-kV three-phase line that connects the utility pole to a Duke Energy substation; and (9) appurtenant facilities. The proposed Kerr Scott Project, using releases from the reservoir, as directed by the Corps, would generate approximately 22,400 megawatt-hours of energy annually.

m. A copy of the application is available for review at the Commission in the Public Reference Room or may be viewed on the Commission's Web site at http://www.ferc.gov using the “eLibrary link.” Enter the docket number, excluding the last three digits in the docket number field, to access the document. For assistance, contact FERC Online Support. A copy is also available for inspection and reproduction at the address in item h above.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis, and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this, or other pending projects. For assistance, contact FERC Online Support.

n. Public notice of the filing of the initial development application, which has already been given, established the due date for filing competing applications or notices of intent. Under the Commission's regulations, any competing development application must be filed in response to, and in compliance with, public notice of the initial development application. No competing applications or notices of intent may be filed in response to this notice.

o. A license applicant must file, no later than 60 days following the date of issuance of this notice: (1) A copy of the water quality certification; (2) a copy of the request for certification, including proof of the date on which the certifying agency received the request; or (3) evidence of waiver of water quality certification.

Kimberly D. Bose,
Secretary.

[FR Doc. 2010-25960 Filed 10-14-10; 8:45 am]

BILLING CODE 6717-01-P